DEPARTMENT OF TRANSPORTATION

Federal Aviation Administration

14 CFR Part 71

[Airspace Docket No. 02-ASO-6]

Amendment of Class E5 Airspace; Liberty, NC

AGENCY: Federal Aviation Administration (FAA), DOT.

ACTION: Final rule.

SUMMARY: This action amends the Class E5 airspace at Liberty, NC. On April 20, 2000, the May Airport, which is included in the Liberty, NC Class E5 airspace, reverted from a public use facility to private use and the Standard Instrument Approach Procedure (SIAP) serving that airport was cancelled. Cancellation of the SIAP at May Airport eliminated the need for Class E5 airspace, therefore, the Liberty, NC Class E5 airspace legal description must be amended to reflect the change.

EFFECTIVE DATE: 0901 UTC, August 8, 2002.

FOR FURTHER INFORMATION CONTACT: Walter R. Cochran, Manager, Airspace Branch, Air Traffic Division, Federal Aviation Administration, P.O. Box 20636, Atlanta, Georgia 30320; telephone (404) 305-5586.

SUPPLEMENTARY INFORMATION:

History

The Liberty, NC Class E5 airspace includes the May Airport Class E5 airspace. On April 20, 2000, the May Airport reverted from a public use facility to private use and cancelled the SIAP serving the airport. Cancellation of the SIAP eliminated the need for Class E5 airspace at the May Airport, and requires that the Liberty, NC Class E5 airspace legal description be amended to delete the May Airport Class E5 airspace. This rule will become effective on the date specified in the EFFECTIVE DATE section. Since this action eliminates the impact on controlled airspace on the users of the airspace in the vicinity of the May Airport, notice and public procedure under 5 U.S.C. 553(b) are unnecessary. Class E airspace designations for airspace areas extending upward from 700 feet or more above the surface of the earth are published in paragraph 6005 of FAA Order 7400.9J, dated August 31, 2001, and effective September 16, 2001, which is incorporated by reference in 14 CFR 71.1. The Class E airspace designation listed in this document will be published subsequently in the Order.

The Rule

This amendment to part 71 of the Federal Aviation Regulations (14 CFR part 71) amends Class E5 airspace at Liberty, NC.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 2979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in CFR Part 71

Airspace, Incorporation by reference, Navigation (air).

Adoption of the Amendment

In consideration of the foregoing, the Federal Aviation Administration amends 14 CFR part 71 as follows:

PART 71—DESIGNATION OF CLASS A, CLASS B, CLASS C, AND CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9J, Airspace Designations and Reporting Points, dated August 31, 2001, and effective September 16, 2001, is amended as follows:

Paragraph 6005 Class E Airspace Areas Extending Upward from 700 feet or More Above the Surface of the Earth.

* * * * *

ASO NC E5 Liberty, NC [Revised]

Liberty Causey Airport, NC

(Lat. 35°54′46″ N, long. 79°37′02″ W)

That airspace extending upward from 700 feet above the surface within a 6.3-mile radius of Causey Airport.

* * * * *

Issued in College Park, Georgia, on May 15, 2002.
Walter R. Cochran,
Acting Manager, Air Traffic Division, Southern Region.

[FR Doc. 02-12853 Filed 5-21-02; 8:45 am]

BILLING CODE 4910-13-M